DEPARTMENT OF COMMERCE

International Trade Administration

[A-570-983]

Drawn Stainless Sinks From the People's Republic of China: Final Results of the Antidumping Duty Administrative Review; 2017-2018

AGENCY: Enforcement and Compliance, International Trade Administration, Department of Commerce.

SUMMARY: The Department of Commerce (Commerce) finds that certain companies covered by this administrative review sold drawn stainless steel sinks from the People's Republic of China (China) at less than normal value during the period of review (POR) April 1, 2017 through March 31, 2018.

DATES: Applicable August 6, 2019.

FOR FURTHER INFORMATION CONTACT: Rebecca M. Janz or Joshua Tucker, AD/CVD Operations, Office II, Enforcement and Compliance, International Trade Administration, U.S. Department of Commerce, 1401 Constitution Avenue NW, Washington, DC 20230; telephone: (202) 482-2972 or (202) 482-2044, respectively.

Background

Commerce published the Preliminary Results on December 28, 2018.¹ For events subsequent to the Preliminary Results, see the Issues and Decision Memorandum.² Commerce conducted this administrative review in accordance with section 751 of the Tariff Act of 1930, as amended (the Act).

¹ See Drawn Stainless Steel Sinks from the People's Republic of China: Antidumping Duty Administrative Review and Preliminary Determination of No Shipments: 2017-2018, 83 FR 67226 (December 28, 2018) (Preliminary Results), and accompanying Preliminary Decision Memorandum (PDM).

² See Memorandum, “Issues and Decision Memorandum for the Antidumping Duty Administrative Review: Drawn Stainless Steel Sinks from the People's Republic of China; 2017-2018,” dated concurrently with, and hereby adopted by, this notice (Issues and Decision Memorandum).

Commerce exercised its discretion to toll all deadlines affected by the partial federal government closure from December 22, 2018 through the resumption of operations on January 29, 2019.³ In May 2019, Commerce extended the final results of this review by 60 days.⁴ Accordingly, the revised deadline for the final results is now July 30, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. Because the Preliminary Results published on December 28, 2018, six days into the partial government closure, the deadline for these final results has been extended by 34 days.

⁴ See Memorandum, “Drawn Stainless Steel Sinks from the People's Republic of China: Extension of Deadline for Final Results of 2017-2018 Antidumping Duty Administrative Review,” dated May 29, 2018.

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.⁵

⁵ For a complete description of the scope of the order, see Preliminary Results, and accompanying PDM at 4.

Analysis of Comments Received

All issues raised in the case brief are addressed in the Issues and Decision Memorandum. A list of the issues raised and to which we respond in the Issues and Decision Memorandum is attached to this notice as an Appendix. The Issues and Decision Memorandum is a public document and is on file electronically via Enforcement and Compliance's Antidumping and Countervailing Duty Centralized Electronic Service System (ACCESS). ACCESS is available to registered users at https://access.trade.gov, and it is available to all parties in the Central Records Unit, Room B8024 of the main Commerce building. In addition, a complete version of the Issues and Decision Memorandum can be accessed directly at http://enforcement.trade.gov/frn/index.html. The signed Issues and Decision Memorandum and the electronic version of the Issues and Decision Memorandum are identical in content.

Changes Since the Preliminary Results

Based on our analysis of the comments received, we made no changes to the Preliminary Results.

Final Determination of No Shipments

In the Preliminary Determination, we determined that Zhuhai KOHLER Kitchen & Bathroom Products Co., Ltd. (Zhuhai KOHLER) and Yuyao Afa Kitchenware Co., Ltd. (Yuyao Afa) had no shipments of subject merchandise during the POR.⁶ We received no comments since the issuance of the Preliminary Results on this issue. Therefore, for these final results, we continue to determine that Zhuhai KOHLER and Yuyao Afa had no shipments of subject merchandise during the POR, and we intend to issue appropriate instructions to U.S. Customs and Border Protection (CBP) that are consistent with our “automatic assessment” clarification for these final results of review.⁷

⁶ See Preliminary Results, 83 FR at 67226.

⁷ See Non-Market Economy Antidumping Proceedings: Assessment of Antidumping Duties, 76 FR 65694, 65694-95 (October 24, 2011); see also “Assessment Rates” section of this notice.

Separate Rate Respondents

In the Preliminary Results, we determined that KaiPing Dawn Plumbing Products, Inc. (KaiPing Dawn); Guangdong New Shichu Import & Export Company Limited (New Shichu); Elkay (China) Kitchen Solutions Co., Ltd (Elkay); and B&R Industries Limited (B&R) demonstrated their eligibility for separate rates.⁸ With respect to three of these companies, we received no comments since the issuance of the Preliminary Results on this issue; thus, we continue to find that these three companies are eligible for a separate rate.

⁸ See Preliminary Results, 83 FR at 67227.

With respect to one exporter, we received comments from the petitioner with regards to that exporter's separate rate claim. However, we continue to find that this exporter demonstrated the absence of de jure and de facto government control; thus, we continue to grant this company a separate rate for these final results.⁹

⁹ For further discussion, see the Issues and Decision Memorandum at Comments 1 and 2.

With respect to Feidong Import and Export Co., Ltd. (Feidong); Xinhe Stainless Steel Products Co., Ltd. (Xinhe); Jiangmen New Star Hi-Tech Enterprise Ltd. (New Star); Ningbo Afa Kitchen and Bath Co., Ltd. (Ningbo Afa); Guangdong G-Top Import & Export Co., Ltd. (Guangdong G-Top); Jiangmen Pioneer Import & Export Co., Ltd. (Jiangmen Pioneer); and Zhongshan Superte Kitchenware Co., Ltd. (Superte), we preliminarily determined that these companies failed to establish their entitlement to a separate rate, and, thus, we found them to be part of the China-wide entity. We received no comments since the issuance of the Preliminary Results on this issue with respect to these companies. Therefore, we continue to find that these companies are not eligible for a separate rate and are part of the China-wide entity.

Rate for Non-Examined Separate-Rate Respondents

In the Preliminary Results,¹⁰ consistent with our recent practice, we preliminarily assigned the non-selected separate rate companies a weighted-average dumping margin of 1.78 percent (i.e., the most recently assigned separate rate in this proceeding) ¹¹ because we did not calculate any individual rates or assign a rate based on facts available during this review.¹² No parties commented on the methodology for calculating this separate rate. Therefore, in these final results of the review, we continue to assign a rate of 1.78 percent for those companies that were not individually examined and are eligible for a separate rate. These companies, KaiPing, New Shichu, Elkay, and B&R, are also listed below in the section entitled “Final Results of the Review.”

¹⁰ See Preliminary Results, 83 FR at 67227.

¹¹ See Drawn Stainless Steel Sinks from the People's Republic of China: Final Results of Antidumping Duty Administrative Review and Final Determination of No Shipments; 2015-2016, 82 FR 28639, 28640 (June 23, 2017).

¹² See, e.g., Certain Frozen Warmwater Shrimp from the Socialist Republic of Vietnam: Preliminary Results of Antidumping Duty Administrative Review; 2015-2016, 81 FR 78789, 78790-91 (November 9, 2016), and accompanying PDM at 10-11, unchanged in Certain Frozen Warmwater Shrimp from the Socialist Republic of Vietnam: Final Results of Antidumping Duty Administrative Review; 2015-2016, 82 FR 11431, 11432-33 (February 23, 2017).

Final Results of the Administrative Review

Because Feidong, Xinhe, New Star, Ningbo Afa, Guangdong G-Top, Jiangmen Pioneer, and Superte did not demonstrate that they are entitled to a separate rate, Commerce finds these seven companies to be part of the China-wide entity. Because no party requested a review of the China-wide entity, and Commerce no longer considers the China-wide entity as an exporter conditionally subject to administrative reviews,¹³ we did not conduct a review of the China-wide entity. The rate previously established for the China-wide entity is 76.45 percent and is not subject to change as a result of this review.

¹³ See Antidumping Proceedings: Announcement of Change in Department Practice for Respondent Selection in Antidumping Duty Proceedings and Conditional Review of the Nonmarket Economy Entity (NME) in NME Antidumping Duty Proceedings, 78 FR 65963, 65970 (November 4, 2013).

For companies subject to this review that established their eligibility for a separate rate, we continue to determine that the following weighted-average dumping margins exist for the period April 1, 2017 through March 31, 2018:

Exporter | Weighted- average dumping margin (percent)
KaiPing Dawn Plumbing Products, Inc | 1.78
Guangdong New Shichu Import & Export Company Limited | 1.78
Elkay (China) Kitchen Solutions Co., Ltd | 1.78
B&R Industries Limited | 1.78

Assessment Rates

Pursuant to section 751(a)(2)(C) of the Act and 19 CFR 351.212(b), Commerce has determined, and CBP shall assess, antidumping duties on all appropriate entries of subject merchandise in accordance with the final results of this review. Commerce intends to issue appropriate assessment instructions directly to CBP 15 days after publication of the final results of this administrative review.

For the respondents that were not selected for individual examination in this administrative review and qualified for a separate rate, we will instruct CBP to assess dumping duties at the rate of 1.78 percent.

For Feidong, Xinhe, New Star, Ningbo Afa, Guangdong G-Top, Jiangmen Pioneer, and Superte, because Commerce determined that these companies did not qualify for a separate rate, we will instruct CBP to assess dumping duties on the companies' entries of subject merchandise at the rate of 76.45 percent, which is the rate applicable to the China-wide entity.

For Zhuhai KOHLER and Yuyao Afa, because Commerce determined that these companies had no shipments of the subject merchandise during the POR, any suspended entries of subject merchandise from these companies will be liquidated at China-wide rate.¹⁴

¹⁴ For a full discussion of this practice, see Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review; (2) for previously investigated or reviewed China and non-China exporters not listed above that currently have a separate rate, the cash deposit rate will continue to be the exporter-specific rate published for the most recently completed segment of this proceeding where the exporter received that separate rate; (3) for all China exporters of subject merchandise that have not been found to be entitled to a separate rate, the cash deposit rate will be the rate for the China-wide entity, 76.45 percent; and (4) for all non-China exporters of subject merchandise which have not received their own separate rate, the cash deposit rate will be the rate applicable to the China exporter that supplied that non-China exporter. These deposit requirements, when imposed, shall remain in effect until further notice.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Jeffrey I. Kessler,
Assistant Secretary for Enforcement and Compliance.

Appendix

List of Topics Discussed in the Issues and Decision Memorandum

I. Summary

II. Background

III. Discussion of the Issues

Comment 1. Liquidation Rate for Exporter A's Shipments of Xinhe-Produced Subject Merchandise

Comment 2. Exporter A's Separate Rate Status

IV. Recommendation

[FR Doc. 2019-16752 Filed 8-5-19; 8:45 am]

BILLING CODE 3510-DS-P